DEPARTMENT OF THE INTERIOR

Bureau of Land Management

[LL WO31000-L13100000.PP0000-24-1A; OMB Control Number 1004-0034]

Information Collection; Transfer of Interest in a Lease for Oil and Gas or Geothermal Resources

AGENCY: Bureau of Land Management.

ACTION: 30-Day Notice and Request for Comments.

SUMMARY: The Bureau of Land Management (BLM) has submitted an information collection request to the Office of Management and Budget (OMB) for a 3-year extension of OMB Control Number 1004-0034 under the Paperwork Reduction Act. The respondents are persons who wish to transfer an interest in an oil and gas or geothermal lease under the terms of mineral leasing laws.

DATES: The OMB is required to respond to this information collection request within 60 days but may respond after 30 days. Therefore, written comments should be received on or before May 28, 2009.

ADDRESSES: You may submit comments directly to the Desk Officer for the Department of the Interior (OMB #1004-0034), Office of Management and Budget, Office of Information and Regulatory Affairs, fax 202-395-5806, or by electronic mail at oira_docket@omb.eop.gov.

Please mail a copy of your comments to:

BLM Information Collection Clearance Officer (WO-630), Department of the Interior, 1849 C Street, NW., Mail Stop 401 LS, Washington, DC 20240.

You may also send a copy of your comments by electronic mail to jean_sonneman@blm.gov.

FOR FURTHER INFORMATION CONTACT: Barbara Gamble, Division of Fluid Minerals, at 202-452-0338 (Commercial or FTS).

SUPPLEMENTARY INFORMATION: Title: Oil and Gas Lease Transfers by Assignment or Operating Rights (Sublease).

OMB Number: 1004-0034.

Form Numbers: 3000-3; 3000-3a.

Abstract: The BLM uses Form 3000-3 to process transfers of interest in oil and gas or geothermal leases by assignment of record title interest. The BLM uses Form 3000-3a to process transfers of operating rights (subleases) in oil and gas or geothermal leases. The information collected enables the BLM to identify the interest that is proposed to be assigned or transferred, to determine whether the proposed assignee or transferee is qualified to obtain the interest sought, and to ensure that the proposed assignee or transferee does not exceed statutory acreage limitations.

60-Day Notice: On November 20, 2008, the BLM published a 60-day notice (73 FR 70362) requesting comments on the proposed information collection. The comment period ended January 20, 2009. No comments were received.

Current Action: This proposal is being submitted to extend the expiration date of April 30, 2009.

Type of Review: 3-year extension.

Affected Public: Businesses and other for-profit entities.

Obligation to Respond: Required to obtain or retain benefits.

Estimated Number of Annual Responses: 60,000.

Estimated Time per Response: 3000-3, 30 minutes; 3000-3a, 30 minutes.

Estimated Total Annual Burden Hours: 30,000.

The BLM requests comments on the following subjects:

(1) Whether the collection of information is necessary for the proper functioning of the BLM, including whether the information will have practical utility;

(2) The accuracy of the BLM's estimate of the burden of the information collection, including the validity of the methodology and assumptions used;

(3) The quality, utility, and clarity of the information collected; and

(4) How to minimize the information collection burden on those who are to respond, including the use of appropriate automated, electronic, mechanical, or other forms of information technology. Please send comments to the addresses listed under ADDRESSES. Please refer to OMB control number 1004-0034 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Bureau of Land Management, Acting Information Collection Clearance Officer.

[FR Doc. E9-9631 Filed 4-27-09; 8:45 am]

BILLING CODE 4310-84-P